NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 671 of the Code of Federal Regulations. This is the required notice of permit applications received.

DATES: Interested parties are invited to submit written data, comments, or views with respect to this permit application by October 7, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Adrian Dahood, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

1. Applicant Permit Application: 2014-013, Ian Shaw and Thomas Kokta, Polar Latitudes, Inc, Fairfield CT.

Activity for Which Permit Is Requested

Waste; The applicants wish to fly a small, battery operated, remotely controlled copter equipped with a camera to take scenic photos of the Antarctic. The copter would not be flown over concentrations of birds or mammals or over Antarctic Specially Protected Areas. The copter would only be flown by Thomas Kokta who has trained for more than 40 hours using the copter. Several measures would be taken to prevent against loss of the copter including painting the copter a highly visible color, only flying it when the wind is calm, flying the copter for only 10 minutes at a time to preserve battery life, and ensuring that the separation between the operator and copter does not exceed its “operational range” of 500 meters. The applicants are seeking a Waste Permit to cover any accidental releases that may result from flying the copter.

Location

Western Antarctic Peninsula Region.

Dates

November 1, 2013 to December 31, 2013.

Nadene G. Kennedy,
Polar Coordination Specialist, Division of Polar Programs.

[FR Doc. 2013-21558 Filed 9-4-13; 8:45 am]

BILLING CODE 7555-01-P